DEPARTMENT OF TRANSPORTATION

Federal Aviation Administration

14 CFR Part 71

[Docket No. FAA-2016-0735; Airspace Docket No. 16-ASO-2]

Amendment of Class D and Class E Airspace for the following Tennessee Towns; Jackson, TN; Tri-Cities, TN

AGENCY: Federal Aviation Administration (FAA), DOT.

ACTION: Final rule, correction.

SUMMARY: This action corrects final rule published in the Federal Register of March 29, 2016, amending Class E Airspace designated as an extension at McKellar-Sipes Regional Airport, Jackson, TN, and Tri-Cities Regional Airport, Tri-Cities, TN. This action corrects the geographic coordinates for McKellar-Sipes Regional Airport. Also, the geographic coordinates for McKellar-Sipes Regional Airport in Class D airspace, Class E surface airspace, and Class E airspace extending upward from 700 feet above the surface, are updated to coincide with the FAA's aeronautical database. The airport name also is corrected in the Class E 700 feet airspace area. Additionally, Class D Airspace is added to the title.

DATES: Effective 0901 UTC, May 26, 2016. The Director of the Federal Register approves this incorporation by reference action under Title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

The Federal Register published a final rule amending Class E airspace designated as an extension at McKellar-Sipes Regional Airport, Jackson, TN, and Tri-Cities Regional Airport, Tri-Cities, TN. (81 FR 17376, March 29, 2016) Docket No. FAA-2016-0735. Further review by the FAA revealed the geographic coordinates for McKellar-Sipes Regional Airport, Jackson, TN, required updating. For consistency, the geographic coordinates for the airport are also amended in Class D airspace, Class E surface area airspace, and Class E airspace extending upward from 700 feet above the surface.

Class D and Class E airspace designations are published in paragraphs 5000, 6002, 6004, and 6005, respectively, of FAA Order 7400.9Z dated August 6, 2015, and effective September 15, 2015, which is incorporated by reference in 14 CFR part 71.1. The Class D and Class E airspace designations listed in this document will be published subsequently in the Order.

Availability and Summary of Documents for Incorporation by Reference

This document amends FAA Order 7400.9Z, Airspace Designations and Reporting Points, dated August 6, 2015, and effective September 15, 2015. Availability information for FAA Order 7400.9Z can be found in the original final rule (81 FR 17376, March 29, 2016). FAA Order 7400.9Z lists Class A, B, C, D, and E airspace areas, air traffic service routes, and reporting points.

Correction to Final Rule

Accordingly, pursuant to the authority delegated to me, in the Federal Register of March 29, 2016 (81 FR 17376) FR Doc. 2016-06993, Amendment of Class E Airspace for the following Tennessee Towns: Jackson, TN ; Tri-Cities, TN, is corrected as follows:

§ 71.1 [Amended]

On page 17376, column 3, line 13, after “Amendment of” add the words “Class D Airspace and . . .”

On page 17377, column 3, line 23, remove, “(Lat. 35°35′59″ N., long. 88°54′56″ W.)”, and add in its place, “(Lat. 35°36′00″ N., long. 88°54′56″ W.)” On page 17377, column 3, after line 39, add the following text:

Paragraph 5000 Class D Airspace.

* * * * *

ASO TN D Jackson, TN [Corrected]

McKellar-Sipes Regional Airport, TN

(Lat. 35°36′00″ N., long. 88°54′56″ W.)

That airspace extending upward from the surface to and including 2900 feet MSL within a 4.2-mile radius of McKellar-Sipes Regional Airport. This Class D airspace area is effective during the specific dates and times established in advance by Notice to Airmen. The effective date and time will thereafter be continuously published in the Airport/Facility Directory.

Paragraph 6002 Class E Surface Area Airspace.

* * * * *

ASO TN E2 Jackson, TN [Corrected]

McKellar-Sipes Regional Airport, TN

(Lat. 35°36′00″ N., long. 88°54′56″ W.)

Within a 4.2-mile radius of McKellar-Sipes Regional Airport. This Class E airspace area is effective during the specific dates and times established in advance by a Notice to Airmen. The effective date and time will thereafter be continuously published in the Airport/Facility Directory.

Paragraph 6005 Class E Airspace Areas Extending Upward From 700 Feet or More Above the Surface of the Earth.

* * * * *

ASO TN E5 Jackson, TN [Corrected]

McKellar-Sipes Regional Airport, TN

(Lat. 35°36′00″ N., long. 88°54′56″ W.)

That airspace extending upward from 700 feet above the surface within a 7-mile radius of McKellar-Sipes Regional Airport.

Issued in College Park, Georgia, on May 10, 2016.
Ryan W. Almasy,
Manager, Operations Support Group, Eastern Service Center, Air Traffic Organization.

[FR Doc. 2016-11818 Filed 5-19-16; 8:45 am]

BILLING CODE 4910-13-P